DEPARTMENT OF COMMERCE

International Trade Administration

[A-533-871]

Finished Carbon Steel Flanges From India: Final Results of Antidumping Duty Administrative Review; 2022-2023

AGENCY: Enforcement and Compliance, International Trade Administration, Department of Commerce.

SUMMARY: The U.S. Department of Commerce (Commerce) determines that producers and/or exporters subject to this administrative review made sales of subject merchandise at less than normal value (NV) during the period of review (POR) August 1, 2022, through July 31, 2023.

DATES: Applicable January 2, 2025.

FOR FURTHER INFORMATION CONTACT: Fred Baker or Theodora Mattei, AD/CVD Operations, Office VI, Enforcement and Compliance, International Trade Administration, U.S. Department of Commerce, 1401 Constitution Avenue NW, Washington, DC 20230; telephone: (202) 482-2924 or (202) 482-4834, respectively.

SUPPLEMENTARY INFORMATION:

Background

On August 24, 2017, Commerce published in the Federal Register the antidumping duty order on finished carbon steel flanges from India.¹ On September 7, 2023, Commerce published the Preliminary Results of the 2022-2023 administrative review and invited interested parties to comment. This administrative review covers 14 producers and/or exporters of the subject merchandise. Commerce selected R.N. Gupta & Co. Ltd. (RNG) and Norma Group ² for individual examination. The producers/exporters not selected for individual examination are listed in the Appendix II section of this notice.³ On October 22, 2024, Norma Group and RNG each submitted a case brief.⁴ No other party submitted case or rebuttal briefs. On December 9, 2024, Commerce tolled the deadline to issue the final results in this administrative review by 90 days.⁵ Accordingly, the deadline for these final results is now April 11, 2025.

¹ See Finished Carbon Steel Flanges from India and Italy: Antidumping Duty Orders, 82 FR 40136 (August 24, 2017) (Order).

² In prior segments of this proceeding, we determined that Norma (India) Limited, USK Exports Private Limited, Uma Shanker Khandelwal & Co., and Bansidhar Chiranjilal were affiliated and should be treated as a single entity (Norma Group). See, e.g., Finished Carbon Steel Flanges from India: Preliminary Determination of Sales at Less Than Fair Value and Postponement of Final Determination, 82 FR 9719 (February 8, 2017), and accompanying Preliminary Decision Memorandum, at 4-5, unchanged in Finished Carbon Steel Flanges from India: Final Determination of Sales at Less Than Fair Value, 82 FR 29483 (June 29, 2017). In this review, Norma (India) Limited and its affiliated entities have affirmed that the factual basis on which Commerce made its prior determinations has not changed. See Norma Group's Letter, “2nd Supplemental Response Section A, C and D of Anti-Dumping duty Original Questionnaire,” dated June 26, 2024, at S2-3. Therefore, Commerce continues to treat these four companies as a single entity.

³ See Appendix II for a list of companies not selected for individual examination.

⁴ See Norma Group's Letter, “Case Brief,” dated October 22, 2024; see also RNG's Letter, “Case Brief of R.N. Gupta & Company Limited,” dated October 22, 2024.

⁵ See Memorandum, “Tolling of Deadlines for Antidumping and Countervailing Duty Proceedings,” dated December 9, 2024.

Scope of the Order

The merchandise covered by the Order is finished carbon steel flanges. For a complete description of the scope of the Order, see the Issues and Decision Memorandum.⁶

⁶ See Memorandum, “Issues and Decision Memorandum for the Final Results of the 2022-2023 Administrative Review of the Antidumping Duty Order on Finished Carbon Steel Flanges from India,” dated December 23, 2024 (Issues and Decision Memorandum).

Methodology

Commerce is conducting this review in accordance with sections 751(a)(1)(B) and (2) of the Act. Export price is calculated in accordance with section 772 of the Act. NV is calculated in accordance with section 773 of the Act. For a full description of the methodology underlying these final results, see the Issues and Decision Memorandum.

Analysis of Comments Received

All issues raised by the parties in their case and rebuttal briefs are addressed in the Issues and Decision Memorandum. A list of the issues which parties raised, and to which we responded in the Issues and Decision Memorandum, follows in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our analysis of the comments received, and for the reasons explained in the Issues and Decision Memorandum, Commerce made certain changes to the preliminary weighted-average dumping margins for RNG and Norma Group. As a result of these changes, we have also revised the rate applicable companies not selected for individual examination.

Rate for Non-Selected Companies

The Act and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted average dumping margins established for exporters and producers individually investigated, excluding any zero or de minimis margins, and any margins determined entirely {on the basis of facts available}.”

In this administrative review, we preliminarily calculated weighted-average dumping margins for Norma Group and RNG that are not zero, de minimis (i.e., less than 0.5 percent), or determined entirely on the basis of facts available. Accordingly, consistent with guidance in section 735(c)(5)(A) of the Act, Commerce is preliminarily assigning to the companies not individually examined a margin of 2.54 percent, which is the weighted average of Norma Group's margin and RNG's margin based on publicly ranged U.S. sales values.⁷ The companies not selected for individual examination are listed in Appendix II.

⁷ See Memorandum, “Calculation of Margin for Respondents Not Selected for Individual Examination,” dated concurrently with this notice.

Final Results of Administrative Review

For these final results, we determine that the following estimated weighted-average dumping margins exist for the period August 1, 2022, through July 31, 2023:

Exporter/manufacturer | Weighted-average dumping margin (percent)
Norma (India) Limited/USK Exports Private Limited/Uma Shanker Khandelwal & Co./Bansidhar Chiranjilal | 0.89
R.N. Gupta & Company Limited | 3.60
Review-Specific Rate for Non-Selected Companies | 2.54

Disclosure

Commerce intends to disclose the calculations performed for these final results to parties in this proceeding within five days of the date of publication of this notice in the Federal Register, in accordance with 19 CFR 351.224(b).

Assessment Rates

Upon completion of this administrative review, Commerce shall determine, and U.S. Customs and Border Protection (CBP) shall assess, antidumping duties on all appropriate entries. If the weighted-average dumping margin for a mandatory respondent is not zero or de minimis in the final results of this review, we will calculate an importer-specific assessment rate on the basis of the ratio of the total amount of dumping calculated for each importer's examined sales and the total entered value of such sales in accordance with 19 CFR 351.212(b)(1).⁸ If the weighted-average dumping margin is zero or de minimis in the final results of review, or if an importer-specific assessment rate is zero or de minimis, Commerce will instruct CBP to liquidate appropriate entries without regard to antidumping duties.⁹ For entries of subject merchandise during the period of review produced by the respondents for which they did not know its merchandise was destined for the United States, we will instruct CBP to liquidate unreviewed entries pursuant to the reseller policy, i.e., the assessment rate for such entries will be the all-others rate established in the investigation if there is no rate for the intermediate company(ies) involved in the transaction.¹⁰

⁸ See Antidumping Proceedings: Calculation of the Weighted-Average Dumping Margin and Assessment Rate in Certain Antidumping Proceedings: Final Modification, 77 FR 8101, 8103 (February 14, 2012).

⁹ Id., 77 FR 8102-03; see also 19 CFR 351.106(c)(2).

¹⁰ See Antidumping and Countervailing Duty Proceedings: Assessment of Antidumping Duties, 68 FR 23954 (May 6, 2003).

For the companies which were not selected for individual examination, we intend to assign an antidumping duty assessment rate equal to the weighted-average dumping margin determined for the non-examined companies in the final results of review.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication). The final results of this review shall be the basis for the assessment of antidumping duties on entries of merchandise covered by the final results of this review and for future cash deposits of estimated antidumping duties, where applicable.¹¹

¹¹ See section 751(a)(2)(C) of the Act.

Cash Deposit Requirements

The following cash deposit requirements will be effective upon publication in the Federal Register of the final results of this administrative review for all shipments of the subject merchandise entered, or withdrawn from warehouse, for consumption on or after the date of publication, as provided by section 751(a)(2)(C) of the Act: (1) the cash deposit rate for companies subject to this review will be equal to the company-specific weighted-average dumping margin established in the final results of this administrative review; (2) for merchandise exported by a company not covered in this review but covered in a prior segment of the proceeding, the cash deposit rate will continue to be the company-specific rate published in the completed segment for the most recent period; (3) if the exporter is not a firm covered in this review, a prior review, or the less-than-fair-value investigation, but the producer is, then the cash deposit rate will be the rate established in the most recently completed segment of the proceeding for the producer of the merchandise; and (4) the cash deposit rate for all other producers or exporters will continue to be 8.91 percent, the all-others rate established in the less-than-fair-value investigation.¹² These cash deposit requirements, when imposed, shall remain in effect until further notice.

¹² See Order, 82 FR 40138.

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order (APO)

This notice also serves as a reminder to parties subject to APO of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

These final results of review are issued and published in accordance with sections 751(a)(1) and 777(i)(1) of the Act and 19 CFR 351.221(b)(4).

Dated: December 23, 2024.
Abdelali Elouaradia,
Deputy Assistant Secretary for Enforcement and Compliance.

Appendix I

List of Topics Discussed in the Issues and Decision Memorandum

I. Summary

II. Background

III. Scope of the Order

IV. Changes Since the Preliminary Results

V. Discussion of the Issues

Comment 1: Incorrect Window Period

Comment 2: Incorrect Cash Deposit Instructions

Comment 3: Calculation of Constructed Value Profit and Selling Expenses

VI. Recommendation

Appendix II

List of Companies Not Selected for Individual Examination

1. Balkrishna Steel Forge Pvt. Ltd.

2. C.D. Industries

3. Cetus Engineering Private Limited

4. Echjay Industries Pvt. Ltd.

5. JAI Auto Private Limited

6. Jiten Steel Industries.

7. Munish Forge Private Limited

8. R.D. Forge

9. Renin Piping Products

10. Rollwell Forge Engineering Components and Flanges

11. Rollwell Forge Pvt. Ltd.

12. Tirupati Forge Pvt. Ltd.; Tirupati Forge

[FR Doc. 2024-31480 Filed 12-31-24; 8:45 am]

BILLING CODE 3510-DS-P